DEPARTMENT OF TRANSPORTATION

Federal Highway Administration

Notice of Final Federal Agency Actions on Proposed Highways in Colorado

AGENCY: Federal Highway Administration (FHWA), Department of Transportation (DOT).

ACTION: Notice of limitation on claims for judicial review of actions by FHWA and other Federal agencies.

SUMMARY: This notice announces actions taken by the FHWA and other Federal agencies that are final. The actions relate to various proposed highway projects in the State of Colorado. Those actions issue National Environmental Policy Act (NEPA) and section 4(f) of The Department of Transportation Act (section 4(f)) decisions for the following projects: I-70 Floyd Hill to Veterans Memorial Tunnels EA and FONSI and Vasquez Boulevard I-270 to 64th Avenue EA and FONSI.

DATES: By this notice, the FHWA is advising the public of final agency actions subject to 23 U.S.C. 139(l)(1). A claim seeking judicial review of the Federal agency actions on any of the listed highway projects will be barred unless the claim is filed on or before December 26, 2024. If the Federal law that authorizes judicial review of a claim provides a time period of less than 150 days for filing such claim, then that shorter time period still applies.

FOR FURTHER INFORMATION CONTACT: Stephanie Gibson, Environmental Program Manager, Federal Highway Administration Colorado Division, 12300 W Dakota Avenue, Suite 180, Lakewood, Colorado 80228, telephone: 720-963-3013, email: Stephanie.Gibson@dot.gov. Normal business hours are 8:30 a.m. to 5 p.m. (mountain time), Monday through Friday, except Federal Holidays. You may also contact Lisa Streisfeld, Region 1 Environmental Manager, Colorado Department of Transportation, 222 2829 West Howard Place, Denver, Colorado 80204, telephone: 720-497-6924, email: Lisa Streisfeld@state.co.us. Normal business hours are 8 a.m. to 5 p.m. (mountain time), Monday through Friday, except State holidays.

SUPPLEMENTARY INFORMATION: Notice is hereby given that the FHWA and other Federal agencies have taken final agency actions subject to 23 U.S.C. 139(l)(1) by issuing NEPA and section 4(f) decisions for the highway projects in the State of Colorado that are listed below. The actions by the Federal agencies on a project, and the laws under which such actions were taken, are described in the environmental assessment (EA) and Section 4(f) Evaluations issued in connection with the project and in other key project documents. The EA or EIS, and other key documents for the listed projects are available by contacting the FHWA or the Colorado Department of Transportation at the addresses provided above. The EA and Finding of No Significant Impact (FONSI), documents can be viewed and downloaded from the websites listed below.

This notice applies to all Federal agency decisions on each project as of the issuance date of this notice and all laws under which such actions were taken. This notice does not, however, alter or extend the limitation period of 150 days for challenges to final agency actions subject to previous notices published in the Federal Register.

This notice applies to all Federal agency decisions, actions, approvals, licenses and permits on the project as of the issuance date of this notice, including but not limited to those arising under the following laws, as amended:

1. General: National Environmental Policy Act (NEPA) [42 U.S.C. 4321-4370h]; Federal-Aid Highway Act [title 23 of the United States Code] and associated regulations [title 23 of the Code of Federal Regulations].

2. Air: Clean Air Act, [42 U.S.C. 7401-7671(q)] (transportation conformity); Intermodal Surface Transportation Efficiency Act of 1991, Congestion Mitigation and Air Quality Improvement Program [23 U.S.C. 149].

3. Land: Section 4(f) of The Department of Transportation Act: [49 U.S.C. 303] Farmland Protection Policy Act (FPPA) [7 U.S.C. 4201-4209]. Solid Waste Disposal Act, as amended by the Resource Conservation and Recovery Act of 1976 [42 U.S.C. 6901, et seq.]; Landscaping and Scenic Enhancement (Wildflowers) [23 U.S.C. 319].

4. Wildlife: Endangered Species Act [16 U.S.C. 1531-1544]; Fish and Wildlife Coordination Act [16 U.S.C. 661-667(e)]; Migratory Bird Treaty Act [16 U.S.C. 703-712]. Plant Protection Act [7 U.S.C. 7701 et seq.].

5. Historic and Cultural Resources: Section 106 of the National Historic Preservation Act of 1966 [54 U.S.C. 306108]; Archeological Resources Protection Act of 1977 [16 U.S.C. 470(aa)-470(mm)]; Archeological and Historic Preservation Act [16 U.S.C. 469-469 c-2]; American Indian Religious Freedom Act [42 U.S.C. 1996]; Native American Graves Protection and Repatriation Act [25 U.S.C. 3001-3013].

6. Social and Economic: Civil Rights Act of 1964 [42 U.S.C. 2000(d)-2000(d)(1)]; Uniform Relocation Assistance and Real Property Acquisition Act [42 U.S.C. 61].

7. Wetlands and Water Resources: Clean Water Act [33 U.S.C. 1251-1387 (sections 319, 401, 404, and 408)]; Land and Water Conservation Fund Act [16 U.S.C. 460l-4-460l-11]; Safe Drinking Water Act [42 U.S.C. 300f-300j-9.]; Flood Disaster Protection Act [42 U.S.C. 4001-4129].

8. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

9. Executive Orders: E.O. 11514 Protection and Enhancement of Environmental Quality; E.O. 11593 Protection and Enhancement of Cultural Resources; E.O. 11988 Floodplain Management; E.O. 11990 Protection of Wetlands; E.O. 12898 Federal Actions to Address Environmental Justice in Minority Populations and Low Income Populations; E.O. 13007 Indian Sacred Sites; E.O. 13112 Invasive Species; E.O. 13175 Consultation and Coordination with Indian Tribal Governments; E.O. 13287 Preserve America.

The projects subject to this notice are:

1. I-70 Floyd Hill to Veterans Memorial Tunnels EA and FONSI. Project Location: I-70 east of Idaho Springs, CO. Project overview: Add a third westbound lane to I-70, rebuild I-70 in this area (including a new viaduct) to improve design speeds and stopping sight distance on horizontal curves, construct a new frontage road between the US 6 interchange and the Hidden Valley/Central City interchange, and improve the multimodal trail between US 6 and the Veterans Memorial Tunnel. Project Purpose: improve travel time reliability, safety, and mobility, and to address the deficient infrastructure through this section of I-70. Signed NEPA documents and permits: EA was signed July 29, 2021, and FONSI was signed January 12, 2023. https://www.codot.gov/projects/i70floydhill.

2. Vasquez Boulevard I-270 to 64th Avenue EA and FONSI. Project Location: Commerce City, Colorado. Project overview: Intersection reconfigurations at 60th Avenue and 62nd Avenue, the addition of new local roads, and improvements to pedestrian facilities. Project Purpose: The purpose of this project is to improve vehicular and pedestrian facilities to enhance connectivity along Vasquez Boulevard north of I-270. Signed NEPA documents and permits: EA signed October 31, 2023, and FONSI signed March 12, 2024. https://www.codot.gov/projects/vasquezimprovements.

Authority: 23 U.S.C. 139(l)(1).

John M. Cater,
Division Administrator, Lakewood, Colorado.

[FR Doc. 2024-16612 Filed 7-26-24; 8:45 am]

BILLING CODE 4910-22-P